DEPARTMENT OF HEALTH AND HUMAN SERVICES

Announcement of Intent To Establish the 2015 Dietary Guidelines Advisory Committee and Solicitation of Nominations for Appointment to the Committee Membership; Amendment

AGENCY: Office of the Assistant Secretary for Health, Office of the Secretary, Department of Health and Human Services.

ACTION: Notice; amendment.

SUMMARY: A notice was published in the Federal Register of Friday, October 26, 2012, Vol. 77, No. 208, to announce the intent to establish the 2015 Dietary Guidelines Advisory Committee and solicit nominations of individuals who are interested in being appointed to the Committee membership. This notice is being amended to extend the solicitation period to allow additional time for nominations to be received. The new due date for all nominations to be received is no later than close of business on December 11, 2012.

FOR FURTHER INFORMATION CONTACT: Designated Federal Officer, 2015 DGAC: Richard D. Olson and/or Alternate Designated Federal Officer, 2015 DGAC: Kellie (O'Connell) Casavale, Ph.D., R.D.; Office of Disease Prevention and Health Promotion, OASH/DHHS; 1101 Wootton Parkway, Suite LL 100 Tower Building; Rockville, MD 20852; Telephone: (240) 453-8280; Fax: (240) 453-8281. Lead USDA Co-Executive Secretary: Colette I. Rihane, M.S., R.D., Director, Nutrition Guidance and Analysis Division; Center for Nutrition Policy and Promotion; U.S. Department of Agriculture; 3101 Park Center Drive, Room 1034; Alexandria, VA 22302; Telephone: (703) 305-7600; Fax: (703) 305-3300. USDA Co-Executive Secretary, Shanthy A. Bowman, Ph.D., Nutritionist, Food Surveys Research Group; Beltsville Human Nutrition Research Center, Agricultural Research Service, USDA; 10300 Baltimore Avenue, BARC-West Building 005, Room 125; Beltsville, MD 20705-2350; Telephone: (301) 504-0619. Additional information about the 2015 DGAC is available on the Internet at www.dietary guidelines.gov.

Dated: November 26, 2012.
Howard K. Koh,
Assistant Secretary for Health.

[FR Doc. 2012-28928 Filed 11-29-12; 8:45 am]

BILLING CODE 4150-32-P